Title 3—

The President

Proclamation 10678 of November 22, 2023

Thanksgiving Day, 2023

By the President of the United States of America

A Proclamation

As families, loved ones, and friends across the country come together to celebrate Thanksgiving, let us be grateful for all the blessings of this Nation and its limitless possibilities.

Throughout our country's history, this season of reflection and giving thanks comes in good times and tough ones. Before there was a United States of America, the Pilgrims celebrated Thanksgiving in honor of their first successful harvest and the support and generosity of the Wampanoag people who made it possible. Amid the fierce battle for our Nation's independence, General George Washington and his troops celebrated Thanksgiving on the way to Valley Forge. During the Civil War, President Abraham Lincoln proclaimed Thanksgiving a national holiday to honor the blessings of our country, even as he fought to preserve our Union.

This week, Americans will gather with their loved ones and families, celebrating the love they share and the traditions they built together. To those who are also enduring hard times or grieving the loss of a loved one, know that we are thinking of you.

We are truly a good Nation because we are a good people—the First Lady and I see it every time we travel the country because we meet so many incredible people doing the most extraordinary things. We have met with service members, veterans, and their families, who have selflessly served and sacrificed for our country. We have witnessed the resolve of firefighters, police officers, and first responders, who risk their lives every day to protect us. We have seen the best of our character in the doctors, nurses, scientists, public servants, union workers, and teachers, who ensure everyone is taken care of and no one is left behind. We have seen all the possibilities this Nation holds in the mothers, fathers, and caregivers, who work hard to build a future worthy of their children's greatest dreams, and in young people across the country, who are the most talented, engaged, and educated generation in history.

This Thanksgiving we are grateful for our Nation and the incredible soul of America. May we all remember that we are the United States of America—there is nothing beyond our capacity if we do it together.

NOW, THEREFORE, I, JOSEPH R. BIDEN JR., President of the United States of America, by virtue of the authority vested in me by the Constitution and the laws of the United States, do hereby proclaim Thursday, November 23, 2023, as a National Day of Thanksgiving. I encourage the people of the United States of America to join together and give thanks for the friends, neighbors, family members, and strangers who have supported each other over the past year in a reflection of goodwill and unity.

IN WITNESS WHEREOF, I have hereunto set my hand this twenty-second day of November, in the year of our Lord two thousand twenty-three, and of the Independence of the United States of America the two hundred and forty-eighth.

[FR Doc. 2023-26505

Filed 11-29-23; 8:45 am]

Billing code 3395-F4-P